SMALL BUSINESS ADMINISTRATION

[License No. 05/05-0299]

GMB Mezzanine Capital II, L.P.; Notice Seeking Exemption Under Section 312 of the Small Business Investment Act, Conflicts of Interest

Notice is hereby given that GMB Mezzanine Capital II, L.P., 50 South Sixth Street, Suite 1460, Minneapolis, MN 55402, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730).

GMB Mezzanine Capital II, L.P. proposes to provide debt and equity financing to Eckler's, L.L.C., 5140 South Washington Avenue, Titusville, FL 32780 (“Eckler's”). The financing is contemplated to facilitate the acquisition of the company.

The financing is brought within the purview of § 107.730(a)(1) of the Regulations because GMB Mezzanine Capital II, L.P.'s sister fund, GMB Mezzanine Capital, L.P., is also invested in the company and is an Associate. Therefore, this transaction is considered Financing an Associate, requiring prior SBA approval.

Notice is hereby given that any interested person may submit written comments on the transaction within 15 days of the date of this publication to the Associate Administrator for Investment, U.S. Small Business Administration, 409 Third Street SW., Washington, DC 20416.

Dated: June 13, 2012.
Sean J. Greene,
Associate Administrator for Investment.

[FR Doc. 2012-15300 Filed 6-21-12; 8:45 am]

BILLING CODE P